DEPARTMENT OF JUSTICE

Office of Justice Programs

[OJP (NIJ) Docket No. 1612]

Criminal Justice Interview Room Recording System (IRRS) Standard, Supplier's Declaration of Conformity Requirements, and Selection and Application Guide

AGENCY: National Institute of Justice, DOJ.

ACTION: Notice and request for Comments.

SUMMARY: In an effort to obtain comments from interested parties, the U.S. Department of Justice, Office of Justice Programs, National Institute of Justice (NIJ) will make available to the general public three draft documents related to Interview Room Recording Systems (IRRS) used by criminal justice agencies:

1. Draft Criminal Justice IRRS Standard

2. Draft Criminal Justice IRRS Supplier's Declaration of Conformity Requirements

3. Draft Criminal Justice IRRS Selection and Application Guide

The opportunity to provide comments on these documents is open to industry technical representatives; criminal justice agencies and organizations; research, development, and scientific communities; and all other stakeholders and interested parties. Those individuals wishing to obtain and provide comments on the draft documents under consideration are directed to the following Web site: http://www.justnet.org.

DATES: Comments must be received by 5 p.m. Eastern Time on February 25, 2013.

FOR FURTHER INFORMATION CONTACT: Mark Greene, by telephone at (202) 307-3384 [Note: this is not a toll-free telephone number], or by email at mark.greene2@usdoj.gov.

John H. Laub,
Director, National Institute of Justice.

[FR Doc. 2013-00464 Filed 1-10-13; 8:45 am]

BILLING CODE 4410-18-P